DEPARTMENT OF HEALTH AND HUMAN SERVICES

National Institutes of Health

National Heart, Lung, and Blood Institute; Amended Notice of Meeting

Notice is hereby given of a change in the meeting of the National Heart, Lung, and Blood Institute Special Emphasis Panel, December 14, 2010, 8 a.m. to December 14, 2010, 2 p.m., Doubletree Hotel Bethesda (Formerly Holiday Inn Select), 8120 Wisconsin Avenue, Bethesda, MD 20814 which was published in the Federal Register on November 17, 2010, FR2010-28981.

The meeting location changed from Doubletree Hotel Bethesda to Hyatt Regency Bethesda, 7400 Wisconsin Avenue, Bethesda, MD 20814. The meeting is closed to the public.

Dated: December 2, 2010.
Jennifer S. Spaeth,
Director, Office of Federal Advisory Committee Policy.

[FR Doc. 2010-30816 Filed 12-7-10; 8:45 am]

BILLING CODE 4140-01-P